FEDERAL COMMUNICATIONS COMMISSION

[FR ID: 124774]

Privacy Act of 1974; System of Records

AGENCY: Federal Communications Commission.

ACTION: Rescindment of a system of records notice.

SUMMARY: The FCC's Consumer and Governmental Affairs Bureau (CGB) Stakeholder Database stores the personally identifiable information of individuals who voluntarily submit contact information to CGB. FCC/CGB-5 covers the personally identifiable information (PII) contained in a database of CGB stakeholders which is used to facilitate outreach about FCC public events and recent developments.

DATES: The rescindment will become effective 30 days after publication.

ADDRESSES: Comments can be submitted to Privacy@fcc.gov.

FOR FURTHER INFORMATION CONTACT: For further information please contact Brendan McTaggart, (202) 418-1738 or Privacy@fcc.gov.

SUPPLEMENTARY INFORMATION: The Privacy Act provides that an agency may collect or maintain in its records only information about individuals that is relevant and necessary to accomplish a purpose that is required by a statute or executive order. The FCC has determined that this system no longer meets this standard, because the only types of personally identifiable information currently being collected and maintained in this system is outreach information or business contact information and two new systems—FCC-1, Outreach and FCC-2, Business Contacts and Certification—were developed to maintain this type of outreach and business contact information. Therefore, the FCC proposes to rescind FCC/CGB-5 and expunge or transfer the outreach records it contains to FCC-1, and the business contact information it contains to FCC-2, in accordance with the requirements in the SORN and the applicable records retention or disposition schedule approved by the National Archives and Records Administration.

SYSTEM NAME AND NUMBER:

FCC/CGB-5, CGB Stakeholder Database.

HISTORY:

81 FR 46922 (July 19, 2016).

Marlene Dortch,
Secretary.

[FR Doc. 2023-02202 Filed 2-1-23; 8:45 am]

BILLING CODE 6712-01-P